DEPARTMENT OF AGRICULTURE

Forest Service

National Advisory Committee for Implementation of the National Forest System Land Management Planning Rule

AGENCY: Forest Service, USDA.

ACTION: Notice of meeting.

SUMMARY: The National Advisory Committee for Implementation of the National Forest System Land Management Planning Rule will meet in West Valley City, UT on August 27-29, 2013. Attendees may also participate via webinar and conference call. The Committee operates in compliance with the Federal Advisory Committee Act (FACA) (Pub. L. 92-463). The purpose of the Committee is to provide advice and recommendations on the implementation of the National Forest System Land Management Planning Rule. The purpose of this meeting is to continue the formulation of advice to the Secretary on the Proposed Land Management Planning Directives. This meeting is open to the public.

DATES: The meeting will be held from August 27-29, 2013, begin at 8:00 a.m. and end at 6:00 p.m. on Tuesday and Wednesday, and begin at 8:00 a.m. and end at 11:30 a.m. on Thursday, Mountain Standard Time.

ADDRESSES: The meeting will be held at the Embassy Suites Salt Lake/West Valley City, 3524 South Market Street, West Valley City, Utah, 84119. Attendees may also participate via webinar and conference call. For anyone who would like to attend via webinar and conference call, please contact Chalonda Jasper at cjasper@fs.fed.us or visit the following Web site: http://www.fs.usda.gov/main/planningrule/committee.

Written comments must be sent to USDA Forest Service, Ecosystem Management Coordination, 201 14th Street SW., Mail Stop 1104, Washington, DC 20250-1104. Comments may also be sent via email to Chalonda Jasper at cjasper@fs.fed.us, or via facsimile to 703-235-0138.

All comments are placed in the record and are available for public inspection and copying, including names and addresses when provided. The public may inspect comments received at 1601 N Kent Street, Arlington, VA 22209, 6th Floor. Please contact, Chalonda Jasper at 202-260-9400, cjasper@fs.fed.us, to facilitate entry into the building to view comments.

FOR FURTHER INFORMATION CONTACT: Chalonda Jasper, Ecosystem Management Coordination, 202-260-9400, cjasper@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted:

1. Continue formulation of advice to the Secretary for the Proposed Land Management Planning Directives,

2. Discuss Committee working groups findings, and

3. Administrative tasks.

Further information will be posted on the Planning Rule Advisory Committee Web site at http://www.fs.usda.gov/main/planningrule/committee, including the meeting agenda and webinar and conference call information. A summary of the meeting will be posted at http://www.fs.usda.gov/main/planningrule/committee within 21 days of the meeting.

If you require sign language interpreting, assistive listening devices or other reasonable accommodation, please submit request prior to the meeting by contacting Chalonda Jasper at 202-260-9400, cjasper@fs.fed.us. All reasonable accommodation requests are managed on a case-by-case basis.

Dated: July 25, 2013.
Greg Smith,
Acting Associate Deputy Chief, National Forest System.

[FR Doc. 2013-18469 Filed 7-31-13; 8:45 am]

BILLING CODE 3410-11-P